DEPARTMENT OF COMMERCE

Foreign-Trade Zones Board

[Docket 2-2005]

Foreign-Trade Zone 74—Baltimore, MD; Request for Voluntary Termination of Baltimore Marine Industries Subzone 74A

An application has been submitted to the Foreign-Trade Zones Board (the Board) by the Baltimore Development Corporation, on behalf of the City of Baltimore, Maryland, grantee of FTZ 74, requesting authority to terminate Subzone 74A at the shipbuilding facilities of Baltimore Marine Industries, Inc. The application was submitted pursuant to the provisions of the Foreign-Trade Zones Act (19 U.S.C. 81a-81u), and the regulations of the Board (15 CFR part 400). It was formally filed on January 7, 2005.

Subzone 74A was approved by the Board on March 14, 1985 (Board Order 290, 50 FR 13057; 4/2/85) as Bethlehem Steel Corporation and currently consists of 215 acres located on the lower east bank of the Patapsco River, on the west side of the Sparrows Point Peninsula, some 6 miles southeast of Baltimore.

The applicant is now requesting authority to terminate the subzone stating that Baltimore Marine Industries declared bankruptcy in 1999 and no longer has need for subzone status.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW., Washington, DC 20005; or

2. Submissions via U.S. Postal Service: Foreign Trade Zones Board, U.S. Department of Commerce, FCB-4100W, 1401 Constitution Ave., NW., Washington, DC 20230.

The closing period for their receipt is March 21, 2005. Rebuttal comments in response to material submitted during the foregoing period may be submitted during the subsequent 15-day period to April 4, 2005.

Dated: January 7, 2005.
Dennis Puccinelli,
Executive Secretary.

[FR Doc. 05-1039 Filed 1-18-05; 8:45 am]

BILLING CODE 3510-DS-P